ENVIRONMENTAL PROTECTION AGENCY

[FRL-8789-3]

Science Advisory Board Staff Office; Notification of a Public Meeting of the Clean Air Scientific Advisory Committee (CASAC) Carbon Monoxide Review Panel

AGENCY: Environmental Protection Agency (EPA).

ACTION: Notice.

SUMMARY: The Environmental Protection Agency (EPA) Science Advisory Board (SAB) Staff Office announces a public meeting of the Clean Air Scientific Advisory Committee Carbon Monoxide Review Panel to peer review EPA's Integrated Science Assessment for Carbon Monoxide: First External Review Draft and conduct a consultation on EPA's planning document entitled Carbon Monoxide National Ambient Air Quality Standards: Scope and Methods Plan for Risk and Exposure Assessment.

DATES: The public meeting will be held on Tuesday, May 12, 2009 from 9 a.m. to 5 p.m. (Eastern Time) and Wednesday, May 13, 2009 from 8 a.m. to 2 p.m. (Eastern Time).

ADDRESSES: The meeting will be held at the Carolina Inn, 211 Pittsboro Street, Chapel Hill, North Carolina 27516.

FOR FURTHER INFORMATION CONTACT: Any member of the public who wants further information concerning the CASAC public meeting may contact Dr. Ellen Rubin, Designated Federal Officer (DFO), EPA Science Advisory Board (1400F), U.S. Environmental Protection Agency, 1200 Pennsylvania Avenue, NW., Washington, DC 20460; via telephone/voice mail (202) 343-9975; fax (202) 233-0643; or e-mail at rubin.ellen@epa.gov. General information concerning the CASAC can be found on the EPA Web site at http://www.epa.gov/casac.

SUPPLEMENTARY INFORMATION: Background: The Clean Air Scientific Advisory Committee (CASAC) was established under section 109(d)(2) of the Clean Air Act (CAA or Act) (42 U.S.C. 7409) as an independent scientific advisory committee. CASAC provides advice, information and recommendations on the scientific and technical aspects of air quality criteria and National Ambient Air Quality Standards (NAAQS) under sections 108 and 109 of the Act. The CASAC is a Federal advisory committee chartered under the Federal Advisory Committee Act (FACA), as amended, 5 U.S.C., App. The Panel will comply with the provisions of FACA and all appropriate SAB Staff Office procedural policies.

Section 109(d)(1) of the CAA requires that the Agency periodically review and revise, as appropriate, the air quality criteria and the National Ambient Air Quality Standards (NAAQS) for the six “criteria” air pollutants, including carbon monoxide (CO). EPA is conducting scientific assessments to review the primary (health-based) NAAQS of CO. As part of this review, EPA's Office of Research and Development (ORD) has completed a draft document, Integrated Science Assessment for Carbon Monoxide (First External Review Draft, March 2009) and requested that CASAC peer review the document. EPA's Office of Air and Radiation (OAR) will also release a planning document entitled Carbon Monoxide National Ambient Air Quality Standards: Scope and Methods Plan for Risk and Exposure Assessment (April 2009). OAR has requested that the CASAC provide consultative advice on this plan.

The purpose of the May 12-13, 2009 meeting is to review these two documents. Background information about the formation of the CASAC Carbon Monoxide Review Panel was published in the Federal Register on October 12, 2007 (72 FR 58078-58080). The CASAC Panel previously held a public teleconference on April 8, 2008 (announced in 73 FR 12998) to provide consultative advice on EPA's Plan for Review of the National Ambient Air Quality Standards for Carbon Monoxide, the first document in this review of the CO NAAQS. The CASAC panel report was made available at http://yosemite.epa.gov/sab/sabproduct.nsf/AB0ED61CDF9F37DF8525746A005C12EC/$File/EPA-CASAC-08-013-unsigned.pdf.

Technical Contacts: Any questions concerning EPA's Integrated Science Assessment for Carbon Monoxide should be directed to Dr. Tom Long at long.tom@epa.gov at (919) 541-1880. Any questions concerning EPA's Carbon Monoxide National Ambient Air Quality Standard: Scope and Methods Plan for Risk and Exposure Assessment should be directed to Dr. Dave McKee at mckee.dave@epa.gov at (919) 541-5288.

Availability of Meeting Materials: A meeting agenda, charge questions and other materials for the meeting will be placed on the CASAC Web site at http://www.epa.gov/casac. Select the calendar link on the left and click on May 12-13. The Integrated Science Assessment for Carbon Monoxide: First External Review Draft (March 2009) is available at http://cfpub.epa.gov/ncea/cfm/recordisplay.cfm?deid=203935. The CO NAAQS Scope and Methods Plans (April 2009) will be available at http://www.epa.gov/ttn/naaqs/standards/co/s_co_cr_pd.html.

Procedures for Providing Public Input: Interested members of the public may submit relevant written or oral information for consideration on the topics included in this advisory activity. Oral Statements: To be placed on the public speaker list for the May 12-13, 2009 meeting, interested parties should notify Dr. Ellen Rubin, DFO, by e-mail no later than April 27, 2009. Individuals making oral statements will be limited to three minutes per speaker. Written Statements: Written statements for the May 12-13, 2009 meeting should be received in the SAB Staff Office by April 27, 2009, so that the information may be made available to the CASAC Panel for its consideration prior to this meeting. Written statements should be supplied to the DFO in the following formats: one hard copy with original signature and one electronic copy via e-mail (acceptable file format: Adobe Acrobat PDF, MS Word, WordPerfect, MS PowerPoint, or Rich Text files in IBM-PC/Windows 98/2000/XP format). Submitters are asked to provide versions of each document submitted with and without signatures, because the SAB Staff Office does not publish documents with signatures on its Web sites.

Accessibility: For information on access or services for individuals with disabilities, please contact Dr. Rubin at the phone number or e-mail address noted above, preferably at least ten days prior to the teleconference, to give EPA as much time as possible to process your request.

Dated: March 27, 2009.
Anthony F. Maciorowski,
Deputy Director, Science Advisory Board Staff Office.

[FR Doc. E9-7434 Filed 4-2-09; 8:45 am]

BILLING CODE 6560-50-P